DEPARTMENT OF AGRICULTURE

Rural Housing Service

[DOCKET #: RHS-24-NONE-0033]

Notice of Request for Revision of a Currently Approved Information Collection

AGENCY: Rural Housing Service, USDA.

ACTION: Notice; request for comments.

SUMMARY: In accordance with the Paperwork Reduction Act of 1995, the Rural Housing Service's (RHS) announces its intention to request a revision for a currently approved information collection in support of the program for the Guaranteed Rural Rental Housing Program, for which approval from the Office of Management and Budget (OMB) will be requested.

DATES: Comments on this Notice must be received by November 18, 2024 to be assured consideration.

FOR FURTHER INFORMATION CONTACT: Adyam Negasi, RD Innovation Center—Regulations Management Division, U.S. Department of Agriculture, 1400 Independence Ave. SW, Washington, DC 20250; Tel: 202-221-9298; Email: Adyam.Negasi@usda.gov.

SUPPLEMENTARY INFORMATION: OMB regulation (5 CFR part 1320) implementing provisions of the Paperwork Reduction Act of 1995 (Pub. L. 104-13) requires that interested members of the public and affected agencies have an opportunity to comment on information collection and recordkeeping activities (see 5 CFR 1320.8(d)). This notice identifies an information collection that the Agency is submitting to OMB for renewal and approval.

Comments are invited on (a) whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent through the Federal eRulemaking Portal: Go to https://www.regulations.gov and, in the “Search” box, type in the Docket No. RHS-24-NONE-0033. A link to the Notice will appear. You may submit a comment here by selecting the “Comment” button or you can access the “Docket” tab, select the “Notice,” and go to the “Browse & Comment on Documents” tab. Here you may view comments that have been submitted as well as submit a comment. To submit a comment, select the “Comment” button, complete the required information, and select the “Submit Comment” button at the bottom. Information on using regulations.gov, including instructions for accessing documents, submitting comments, and viewing the docket after the close of the comment period, is available through the site's “FAQ” link at the bottom.

Title: Guaranteed Rural Rental Housing Program.

OMB Control Number: 0575-0174.

Expiration Date of Approval: 01/31/2025.

Type of Request: Revision of a Currently Approved Information Collection.

Abstract: On March 28, 1996, President Clinton signed the “Housing Opportunity Program Extension Act of 1996.” One of the provisions of the Act was the authorization of the section 538 Guaranteed Rural Rental Housing Loan Program, adding the program to the Housing Act of 1949. The program has been designed to increase the supply of affordable Multi-Family Housing (MFH) through partnerships between RHS and major lending sources, as well as State and local housing finance agencies and bond issuers. Qualified lenders will be authorized to originate, underwrite, and close loans for MFH projects. To be considered, these projects must be either new construction or acquisition with rehabilitation with at least $6,500 per unit.

The Secretary is authorized under section 510 (k) of the Housing Act of 1949 to prescribe regulations to ensure that these federally funded loans are made to eligible applicants for authorized purposes. The lender must evaluate the eligibility, cost, benefits, feasibility, and financial performance of the proposed project. The Agency collects this information from the lender to determine if funds are being used to meet the goals and mission of Rural Development. The information submitted by the lender to the Agency is used by the Agency to manage, plan, evaluate, and account for Government resources.

Estimate of Burden: Public reporting burden for this collection of information is estimated to be 0.7 hours.

Respondents: Non-profit and for-profit lending corporations and public bodies.

Estimated Number of Respondents: 150.

Estimated Number of Responses per Respondent: 20.55.

Estimated Number of Responses: 3082.

Estimated Total Annual Burden on Respondents: 2,162 hours.

Copies of this information collection can be obtained from Adyam Negasi, Innovation Center, Regulations Management Division, at 202-221-9298, or adyam.negasi@usda.gov. All responses to this notice will be summarized and included in the request for OMB approval. All comments will also become a matter of public record.

Joaquin Altoro,
Administrator, Rural Housing Service.

[FR Doc. 2024-21455 Filed 9-18-24; 8:45 am]

BILLING CODE 3410-XV-P